U.S.-CHINA ECONOMIC AND SECURITY REVIEW COMMISSION

Notice of Open Public Hearing

AGENCY: U.S.-China Economic and Security Review Commission.

ACTION: Notice of open public hearing—February 15, 2012, Washington, DC.

SUMMARY: Notice is hereby given of the following hearing of the U.S.-China Economic and Security Review Commission.

Name: Dennis Shea, Chairman of the U.S.-China Economic and Security Review Commission.

The Commission is mandated by Congress to investigate, assess, and report to Congress annually on “the national security implications of the economic relationship between the United States and the People's Republic of China.”

Pursuant to this mandate, the Commission will hold a public hearing in Washington, DC on February 15, 2012, to address “China's State-Owned and State-Controlled Enterprises.”

Background: This is the second public hearing the Commission will hold during its 2012 report cycle to collect input from academic, industry, and government experts on national security implications of the U.S. bilateral trade and economic relationship with China. The February 15 hearing will examine China's state controlled enterprises and their competitive challenges. The hearing will be co-chaired by Commissioners Robin Cleveland and Michael Wessel.

Any interested party may file a written statement by February 15, 2012, by mailing to the contact below. A portion of each panel will include a question and answer period between the Commissioners and the witnesses.

Transcripts of past Commission public hearings may be obtained from the USCC Web Site www.uscc.gov.

DATE AND TIME: Wednesday February 15, 2012, 8:45 a.m.-3 p.m. Eastern Standard Time. A detailed agenda for the hearing will be posted to the Commission's Web Site at www.uscc.gov as soon as available. Please check the Web site for possible changes to the hearing schedule.

ADDRESSES: The hearing will be held on in Room 562 of the Dirksen Senate Office Building, located at Constitution Avenue and 1st Street NE., in Washington, DC 20002.

FOR FURTHER INFORMATION CONTACT: Any member of the public seeking further information concerning the hearing should contact Michael Danis, Executive Director for the U.S.-China Economic and Security Review Commission, 444 North Capitol Street NW., Suite 602, Washington, DC 20001; phone: (202) 624-1407, or via email at contact@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: February 1, 2012.
Michael Danis,
Executive Director, U.S.-China Economic and Security Review Commission.

[FR Doc. 2012-2611 Filed 2-3-12; 8:45 am]

BILLING CODE 1137-00-P